DEPARTMENT OF THE INTERIOR

National Park Service

Native American Graves Protection and Repatriation Review Committee: Meeting

AGENCY: National Park Service, Interior.

ACTION: Notice.

SUMMARY: This is notice of a meeting of the Native American Graves Protection and Repatriation Review Committee. The next Review Committee meeting is a public teleconference on July 19, 2004, to discuss agenda items for a Review Committee meeting tentatively scheduled for September 18-19, 2004, in Washington, DC, and to elect a Review Committee chair, and to receive presentations and statements by Indian tribes, Native Hawaiian organizations, museums, Federal agencies, and the public. Notification of this meeting may appear in the Federal Register less than 15 calendar days prior to the meeting date due to difficulties in coordinating Review Committee members' schedules.

DATES: The meeting via teleconference is on July 19, 2004, from 2 p.m. until approximately 5 p.m. e.d.s.t.

FOR FURTHER INFORMATION CONTACT: Designated Federal Officer, Native American Graves Protection and Repatriation Review Committee, telephone (202) 354-2206, facsimile (202) 371-5197, e-mail tim_mckeown@nps.gov.

SUPPLEMENTARY INFORMATION: Authority. Native American Graves Protection and Repatriation Act (NAGPRA, 25 U.S.C. 3001 et seq.), and Federal Advisory Committee Act (FACA, 5 U.S.C. Appendix).

General Information. The Review Committee was established by NAGPRA. Review Committee members are appointed by the Secretary of the Interior. The Review Committee is responsible for monitoring the NAGPRA inventory and identification process; reviewing and making findings related to the identity or cultural affiliation of cultural items, or the return of such items; facilitating the resolution of disputes; compiling an inventory of culturally unidentifiable human remains and recommending actions for developing a process for disposition of such remains; consulting with Indian tribes and Native Hawaiian organizations and museums on matters within the scope of the work of the Review Committee affecting such tribes or organizations; consulting with the Secretary of the Interior in the development of regulations to carry out NAGPRA; and making recommendations regarding future care of repatriated cultural items. The Review Committee's work is completed during meetings that are open to the public.

Transcripts of Review Committee meetings are available approximately 8 weeks after each meeting at the National NAGPRA program office, 1201 Eye Street NW, Washington, DC. To request electronic copies of meeting transcripts, send an e-mail message to nagpra-info@nps.gov. Information about NAGPRA, the Review Committee, and Review Committee meetings is available at the National NAGPRA Website, http://www.cr.nps.gov/nagpra; for the Review Committee's meeting protocol, select “Review Committee,” then select “Procedures.”

Meeting time and remote locations. The teleconference meeting will begin at 2 p.m. and end at approximately 5 p.m. e.d.s.t. Remote locations for public participation in the teleconference have been established at the following National Park Service offices. Participants will need proper identification and should allow extra time to pass through security at each location.

Washington, DC: Headquarters Office, 1201 Eye Street NW, 7th floor, room 90. From 2 p.m. to 5 p.m. e.d.s.t. Contact Robin Coates, (202) 354-2201.

Boston, MA: Northeast Regional Office, 15 State Street, 4th floor conference room. Enter through the Visitors Center for Boston National Historical Park. From 2 p.m. to 5 p.m. e.d.s.t. Contact Chuck Smythe, (617) 223-5014.

Atlanta, GA: Southeast Regional Office, 100 Alabama St, SW, 1924 Building, 6th floor training room. From 2 p.m. to 5 p.m. e.d.s.t. Contact J. Anthony Paredes, (404) 562-3117.

St. Paul, MN: Mississippi National River and Recreation Area, 111 East Kellogg Blvd, room 212. From 1 p.m. to 4 p.m. c.d.s.t. Contact Michael J. Evans, (651) 290-4165.

Denver, CO: Intermountain Regional Office, 12795 West Alameda Parkway. From noon to 3 p.m. m.d.s.t. Contact Cyd Martin, (303) 969-2868.

Santa Fe, NM: Intermountain Regional Office—Santa Fe, 2968 Rodeo Park Drive West, 2nd floor room 2080. From noon to 3 p.m. m.d.s.t. Contact Ed Lee Natay, (505) 988-6896.

Oakland, CA: Pacific West Regional Office, 111 Jackson Street, 6th floor conference room. From 11 a.m. to 2 p.m. p.d.s.t. Contact Roger Kelly, (510) 817-1400.

Seattle, WA: Pacific West Regional Office, 909 First Avenue, room 560. From 11 a.m. to 2 p.m. p.d.s.t. Contact Fred York, (206) 220-4148.

Anchorage, AK: Alaska Regional Office, remote site will be in the executive dining room, Federal Building, 222 W. 7th Avenue. From 10 a.m. to 1 p.m. a.d.s.t. Contact Janet Cohen, (907) 644-3462.

Honolulu, HI: Pacific Island Support Office, 300 Ala Moana Boulevard. From 8 a.m. to 11 a.m. h.s.t. Contact Melia Lane-Kamahale, (808) 541-2693, extension 729.

Agenda for the teleconference meeting. The agenda for the July 19, 2004, meeting includes a discussion of agenda items for the Review Committee meeting tentatively scheduled for September 18-19, 2004, in Washington, DC; election of a Review Committee chair; and presentations and statements by Indian tribes, Native Hawaiian organizations, museums, Federal agencies, and the public. Persons may submit written statements for the Review Committee's consideration to the Designated Federal Officer, facsimile (202) 371-5197, e-mail tim_mckeown@nps.gov.

Dated: June 29, 2004
C. Timothy McKeown,
Designated Federal Officer, Native American Graves Protection and Repatriation Review Committee.

[FR Doc. 04-15163 Filed 7-1-04; 8:45 am]

BILLING CODE 4312-50-S